DEPARTMENT OF COMMERCE

National Oceanic and Atmospheric Administration

[File No. 15844]

RIN 0648-XB065

Marine Mammals

AGENCY: National Marine Fisheries Service (NMFS), National Oceanic and Atmospheric Administration (NOAA), Commerce.

ACTION: Notice; issuance of permit.

SUMMARY: Notice is hereby given that a permit has been issued to Glacier Bay National Park and Reserve (Responsible Party: Susan Boudreau; Principal Investigator: Christine Gabriele), Gustavus, AK 99826 to conduct research on humpback whales (Megaptera novaeangliae), killer whales (Orcinus orca) and minke whales (Balaenoptera acutorostrata).

ADDRESSES: The permit and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Joselyd Garcia-Reyes or Carrie Hubard, (301) 427-8401.

SUPPLEMENTARY INFORMATION: On May 27, 2011, notice was published in the Federal Register (76 FR 30919) that a request for a permit to conduct research on humpback whales, killer whales, and minke whales had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 15844 authorizes Glacier Bay National Park and Preserve to conduct passive acoustics, videography, photo-identification surveys, biopsy sampling, and collect sloughed skin and/or feces to study humpback whales, killer whales and minke whales. Research would occur around southeastern Alaska especially in Glacier Bay National Park and Preserve. Up to 6300 humpback whales, 500 killer whales, and 20 minke whales could be harassed each year during photo-identification surveys. Additionally, humpback whales and the three killer whale ecotypes could be harassed up to 50 times each, to acquire 30 successful biopsy samples, per year. The permit is valid through February 28, 2017.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on February 24, 2012.

As required by the ESA, issuance of this permit was based on a finding that such permit: (1) Was applied for in good faith; (2) will not operate to the disadvantage of such endangered species; and (3) is consistent with the purposes and policies set forth in section 2 of the ESA.

Dated: March 5, 2012.
P. Michael Payne,
Chief, Permits and Conservation Division, Office of Protected Resources, National Marine Fisheries Service.

[FR Doc. 2012-5809 Filed 3-8-12; 8:45 am]

BILLING CODE 3510-22-P